DEPARTMENT OF ENERGY

Notice of Availability of Draft Guidance on Hydrogen and Fuel Cell Program: Guidance for the Clean Hydrogen Production Qualifications

AGENCY: Office of Energy Efficiency and Renewable Energy, Department of Energy.

ACTION: Notice of availability of draft guidance.

SUMMARY: The U.S. Department of Energy (DOE) announces the notice of availability (NOA) and invites public comment on its Clean Hydrogen Production Standard (CHPS) Draft Guidance. The draft guidance contains the initial proposal for the CHPS, as required by the Infrastructure Investment and Jobs Act (IIJA). Specifically, in the draft guidance, DOE establishes a target for the lifecycle (i.e., well-to-gate) emissions intensity of hydrogen production, based on the IIJA definition of the term “clean hydrogen” and other factors set forth in section 40315(b) of the IIJA.

DATES: Comments regarding this draft guidance must be received on or before October 20, 2022.

ADDRESSES: Comments on this draft guidance document must be provided in writing. Interested parties are to submit comments electronically to Cleanh2standard@ee.doe.gov. Email attachments can be provided as a Microsoft Word (.docx) file or Adobe PDF (.pdf). The complete draft guidance document is located at https://www.hydrogen.energy.gov/pdfs/clean-hydrogen-production-standard.pdf.

FOR FURTHER INFORMATION CONTACT: Requests for additional information should be directed to Karen Dandridge at Cleanh2standard@ee.doe.gov, 202-586-3388.

SUPPLEMENTARY INFORMATION: In the Infrastructure Investment and Jobs Act (Pub. L. 117-58), Congress directed DOE to develop an initial standard for the carbon intensity of clean hydrogen production. Specifically, under section 40315(a) of the Infrastructure Investment and Jobs Act, the Secretary of Energy, in consultation with the Administrator of the Environmental Protection Agency and after taking into account input from industry and other stakeholders, is directed to develop an initial standard for the carbon intensity of clean hydrogen production that applies to activities carried out under this title. Section 40315(b) states that the standard shall: (a) support clean hydrogen production from each source described in section 805(e)(2) of the Energy Policy Act of 2005, which includes fossil fuels with carbon capture, utilization, and sequestration; hydrogen-carrier fuels (including ethanol and methanol); renewable energy resources, including biomass; nuclear energy; and any other methods the Secretary determines to be appropriate; (b) define the term “clean hydrogen” to mean hydrogen produced with a carbon intensity equal to or less than 2 kilograms of carbon dioxide-equivalent produced at the site of production per kilogram of hydrogen produced; and (c) take into consideration technological and economic feasibility.

In response, DOE developed and is seeking comment on draft guidance for the clean hydrogen production standard. The draft guidance is available at: https://www.hydrogen.energy.gov/pdfs/clean-hydrogen-production-standard.pdf.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on September 15, 2022, by Dr. Geraldine Richmond, Under Secretary for Science and Innovation, pursuant to delegated authority from the Secretary of Energy. That document with the original signature and date is maintained by DOE. For administrative purpose only, and in compliance with requirements of the Office of the Federal Register, the undersigned DOE Federal Register Liaison Office has been authorized to sign and submit the document in the electronic format for publication, as an official document of the Department of Energy. This administrative process in no way alters the legal effect of this document upon publication in the Federal Register.

Signed in Washington, DC, on September 23, 2022.
Treena V. Garrett,
Federal Register Liaison Officer, U.S. Department of Energy.

[FR Doc. 2022-21016 Filed 9-27-22; 8:45 am]

BILLING CODE 6450-01-P